DEPARTMENT OF THE INTERIOR

Fish and Wildlife Service

[FWS-HQ-R-2018-N119; FXGO1664091HCC0-FF09D00000-189]

International Wildlife Conservation Council; Call for Nominations

AGENCY: Fish and Wildlife Service, Interior.

ACTION: Call for nominations.

SUMMARY: The Secretary of the Interior (Secretary) seeks nominations for individuals to be considered to fill two vacancies in the membership of the International Wildlife Conservation Council (Council). The Council advises the Secretary on issues including anti-poaching programs, wildlife trafficking, and efforts to increase awareness of the conservation and economic benefits of United States citizens traveling to foreign nations to engage in hunting.

DATES: Written nominations must be postmarked by January 14, 2019.

ADDRESSES: Please address and submit your nomination letters via U.S. mail or hand delivery to Mr. Eric Alvarez, Acting Assistant Director-International Affairs; International Wildlife Conservation Council; U.S. Fish and Wildlife Service; 5275 Leesburg Pike, MS:IA; Falls Church, VA 22041-3803.

FOR FURTHER INFORMATION CONTACT: Cade London, Policy Advisor, by email (preferred) at iwcc@fws.gov, by telephone at 703-358-2584, by U.S. mail (see ADDRESSES), or via the Federal Relay Service at 1-800-877-8339.

SUPPLEMENTARY INFORMATION: The Secretary seeks nominations for individuals to be considered to fill two vacancies in the membership of the Council. The Council advises the Secretary on issues including anti-poaching programs, wildlife trafficking, and efforts to increase awareness of the conservation and economic benefits of United States citizens traveling to foreign nations to engage in hunting. The Council conducts its operations in accordance with the provisions of the Federal Advisory Committee Act (5 U.S.C. Appendix 2). The Council functions solely as an advisory body.

Council Duties

For detailed information about the Council's duties or to read the charter, visit the Council's website at www.fws.gov/iwcc/.

Council Makeup

In addition to ex officio members from the Department of the Interior and the Department of State, the Council should be comprised of no more than 18 discretionary members. Visit the Council website at www.fws.gov/iwcc/ for a current list of members.

Nominees must be senior-level representatives of their organizations and/or have the ability to represent their designated constituency. As the charter requires, members will be selected from among, but not limited to, the entities below:

1. Wildlife and habitat conservation/management organizations;

2. U.S. hunters actively engaged in international and/or domestic hunting conservation;

3. The firearms or ammunition manufacturing industry;

4. Archery and/or hunting sports industry; and

5. Tourism, outfitter, and/or guide industries related to international hunting.

You can find more information about terms and length of service in the charter, which is available on the Council's website at: www.fws.gov/iwcc/.

Nomination Method and Eligibility

Nominations should include a resume that provides contact information and a description of the nominee's qualifications that would enable the Department of the Interior to make an informed decision regarding the candidate's suitability to serve on the Council. Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Ariel Alvarez,
Acting Assistant Director-International Affairs.

[FR Doc. 2018-27159 Filed 12-13-18; 8:45 am]

BILLING CODE 4333-15-P